DEPARTMENT OF HEALTH AND HUMAN SERVICES

Food and Drug Administration

[Docket Nos. FDA-2013-N-0618, FDA-2010-N-0601, FDA-2010-N-0598, FDA-2013-N-1155, FDA-2010-N-0118, FDA-2020-N-0145, FDA-2010-N-0597, FDA-2014-N-0086, FDA-2016-N-2836, FDA-2019-N-5841, and FDA-2019-N-5973]

Agency Information Collection Activities; Announcement of Office of Management and Budget Approvals

AGENCY: Food and Drug Administration, Health and Human Services (HHS).

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved by OMB
Title of collection | OMB control No. | Date approval expires
Reporting and Recordkeeping for Electronic Products—General Requirements | 0910-0025 | 8/31/2023
Current Good Manufacturing Practice Regulations for Medicated Feed | 0910-0152 | 8/31/2023
Good Manufacturing Practice Regulations for Type A Medicated Articles, 21 CFR Part 226 | 0910-0154 | 8/31/2023
Food Labeling Regulations | 0910-0381 | 8/31/2023
Prior Notice of Imported Food Under the Public Health Security and Bioterrorism Preparedness and Response Act of 2002 | 0910-0520 | 8/31/2020
Animal Drug User Fee Program | 0910-0540 | 8/31/2023
Index of Legally Marketed Unapproved New Animal Drugs for Minor Species | 0910-0620 | 8/31/2023
Potential Tobacco Product Violations Reporting Form | 0910-0716 | 8/31/2023
Donor Risk Assessment Questionnaire for the FDA/National Heart, Lung, and Blood Institute—Sponsored Transfusion-Transmissible Infections Monitoring System—Risk Factor Elicitation | 0910-0841 | 8/31/2023
Generic Clearance for Qualitative Data to Support Social and Behavioral Research for Food, Dietary Supplements, Cosmetics, and Animal Food and Feed | 0910-0891 | 8/31/2023
Health Care Providers Understanding of Opioid Analgesic Abuse-Deterrent Formulations: Phase 2 and 3 Surveys | 0910-0892 | 8/31/2023

Dated: September 9, 2020.
Lowell J. Schiller,
Principal Associate Commissioner for Policy.

[FR Doc. 2020-20332 Filed 9-14-20; 8:45 am]

BILLING CODE 4164-01-P